FEDERAL RETIREMENT THRIFT INVESTMENT BOARD

Notice of Board Meeting

DATES: August 22, 2023 at 10:00 a.m.

ADDRESSES: Telephonic. Dial-in (listen only) information: Number: 1-202-599-1426, Code: 657 689 377#; or via web: https://teams.microsoft.com/l/meetup-join/19%3ameeting_NDI2OTVhNDYtNTYxZS00MWY2LWJhZmQtMzI5ZTEzMDBiZDIx%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION:

Board Meeting Agenda

Open Session

1. Approval of the July 25, 2023 Board Meeting Minutes

2. Monthly Reports

(a) Participant Report

(b) Investment Report

(c) Legislative Report

3. Quarterly Reports

(d) Metrics

4. OEA Annual Presentation

5. Internal Audit Update

6. Annual Financial Report

7. FY2022 FISMA Report

8. FY2023 FISMA Report

9. FY2024 Budget Proposal Approval

Closed Session

10. Information covered under 5 U.S.C. 552b (c)(4), (c)(9)(B), and (c)(10).

Authority: 5 U.S.C. 552b (e)(1).

Dated: August 10, 2023.
Dharmesh Vashee,
General Counsel, Federal Retirement Thrift Investment Board.

[FR Doc. 2023-17457 Filed 8-14-23; 8:45 am]

BILLING CODE 6760-01-P